DEPARTMENT OF COMMERCE

International Trade Administration

[A-583-863]

Forged Steel Fittings From Taiwan: Rescission of Antidumping Duty Administrative Review; 2018-2019

AGENCY: Enforcement and Compliance, International Trade Administration, Department of Commerce.

SUMMARY: The Department of Commerce (Commerce) determines that Both-Well Steel Fittings, Co., Ltd. (Bothwell), the sole company under review, did not have any entries during the period of review (POR) May 17, 2018 through August 31, 2019 that are subject to review. Therefore, we are rescinding this administrative review.

DATES: Applicable November 9, 2020.

FOR FURTHER INFORMATION CONTACT: George Ayache or Samuel Glickstein, AD/CVD Operations, Office VIII, Enforcement and Compliance, International Trade Administration, U.S. Department of Commerce, 1401 Constitution Avenue NW, Washington, DC 20230; telephone: (202) 482-2623 or (202) 482-5307, respectively.

SUPPLEMENTARY INFORMATION:

Background

On July 23, 2020, Commerce published its Preliminary Results stating its intent to preliminarily rescind this administrative review in the Federal Register and invited parties to comment.¹ For a discussion of events subsequent to the Preliminary Results, see the Issues and Decision Memorandum.² On April 24, 2020, Commerce tolled all deadlines in administrative reviews by 50 days.³ On July 21, 2020, Commerce tolled all deadlines in administrative reviews by an additional 60 days.⁴ The deadline for the final results of this review is now January 19, 2021.

¹ See Forged Steel Fittings from Taiwan: Preliminary Intent to Rescind the Antidumping Duty Administrative Review; 2018-2019, 85 FR 44503 (July 23, 2020) (Preliminary Results).

² See Memorandum, “Decision Memorandum for the Rescission of the Antidumping Duty Administrative Review of Forged Steel Fittings from Taiwan; 2018-2019,” dated concurrently with, and hereby adopted by, this notice (Issues and Decision Memorandum).

³ See Memorandum, “Tolling of Deadlines for Antidumping and Countervailing Duty Administrative Reviews in Response to Operational Adjustments Due to COVID-19,” dated April 24, 2020.

⁴ See Memorandum, “Tolling of Deadlines for Antidumping and Countervailing Duty Administrative Reviews,” dated July 21, 2020.

Scope of the Order

The products covered by the scope of this order are carbon and alloy forged steel fittings, whether unfinished (commonly known as blanks or rough forgings) or finished. Such fittings are made in a variety of shapes including, but not limited to, elbows, tees, crosses, laterals, couplings, reducers, caps, plugs, bushings, unions, and outlets. Forged steel fittings are covered regardless of end finish, whether threaded, socket-weld or other end connections. The subject merchandise is currently classifiable under item numbers 7307.99.1000, 7307.99.3000, 7307.99.5045, and 7307.99.5060 of the Harmonized Tariff Schedule of the United States (HTSUS). Although the HTSUS subheadings are provided for convenience and customs purposes, the written description of the merchandise is dispositive.⁵

⁵ For a complete description of the scope of the order, see Issues and Decision Memorandum.

Analysis of the Comments Received

The sole issue raised in the case and rebuttal brief submitted in this review is addressed in the Issues and Decision Memorandum. A list of the topics raised is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html. The signed and electronic versions of the Issues and Decision Memorandum are identical in content.

Rescission of Administrative Review

It is Commerce's practice to rescind an administrative review pursuant to 19 CFR 351.213(d)(3) when there are no reviewable entries of subject merchandise during the POR subject to the antidumping duty order and for which liquidation is suspended.⁶ At the end of the administrative review, the suspended entries are liquidated at the assessment rate computed for the review period.⁷ Therefore, for an administrative review to be conducted, there must be a reviewable, suspended entry to be liquidated at the newly calculated assessment rate. As discussed in the Issues and Decision Memorandum, we find that, because all of the entries associated with Bothwell's reported sales of subject merchandise during the POR were liquidated by U.S. Customs and Border Protection (CBP), Bothwell had no reviewable entries during this POR.⁸ Accordingly, we are rescinding this review pursuant to 19 CFR 351.213(d)(3).

⁶ See, e.g., Solid Fertilizer Grade Ammonium Nitrate from the Russian Federation: Notice of Rescission of Antidumping Duty Administrative Review, 77 FR 65532 (October 29, 2012).

⁷ See 19 CFR 351.212(b)(l).

⁸ To the extent that record evidence suggests that additional Bothwell-produced merchandise imported into the United States from unaffiliated parties in third countries might have been sold during the POR, Bothwell's statements on the record indicate that it had no knowledge of those sales. Commerce therefore will not review those sales.

Assessment

Because Commerce is rescinding this administrative review, we have not calculated a company-specific dumping margin for Bothwell.

Cash Deposit Requirements

As noted above, Commerce is rescinding this administrative review. Thus, we have not calculated a company-specific dumping margin for Bothwell. Therefore, entries of Bothwell's subject merchandise continue to be subject to its company-specific cash deposit rate of 116.17 percent. This cash deposit requirement shall remain in effect until further notice.

Administrative Protective Order

This notice also serves as a reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Tariff Act of 1930, as amended, and 19 CFR 351.213(h) and 351.221(b)(5).

Dated: November 3, 2020.
Jeffrey I. Kessler,
Assistant Secretary for Enforcement and Compliance.

Appendix

List of Topics Discussed in the Issues and Decision Memorandum

I. Summary

II. Background

III. Scope of the Order

IV. Discussion of the Issue

Comment: Whether Commerce Should Rescind the Administrative Review

V. Recommendation

[FR Doc. 2020-24832 Filed 11-6-20; 8:45 am]

BILLING CODE 3510-DS-P